DEPARTMENT OF LABOR

Office of Workers' Compensation Programs

DFEC Claims Identity Solution

AGENCY: Division of Federal Employees' Compensation, Office of Workers' Compensation Programs, Labor.

ACTION: Notice; Request for Comments.

SUMMARY: The Office of Workers' Compensation Programs (OWCP) administers the Federal Employees' Compensation Act (FECA). In this capacity, OWCP's Division of Federal Employees' Compensation (DFEC) routinely responds to a myriad of written and telephonic inquiries. Claims staff issue written correspondence when developing and adjudicating a claim, and when terminating, reducing, or suspending compensation entitlement.

Because of security and safety concerns expressed by our employees, DFEC is proposing to change its longstanding procedure of placing employee names on correspondence and all decisions in FECA cases. A similar change would be applied to oral communications. To fulfill this requirement, the Division proposes to implement new pseudonym procedures by August 2018.

DATES: Written comments must be submitted to the office listed below on or before June 18, 2018.

ADDRESSES: You may submit comments concerning this notice by mail, delivery service, or by hand to Ms. Yoon Ferguson, United States Department of Labor, 200 Constitution Ave. NW, Room S-3201, Washington, DC 20210, telephone/fax to (202) 354-9647, by email to ferguson.yoon@dol.gov. Please use only the designated method of transmission for comments (mail, fax, or email). Please note that comments after the comment period will not be considered.

SUPPLEMENTARY INFORMATION: OWCP DFEC fully recognizes the importance of the safety and welfare of DFEC employees in its mandate to fulfill the requirements of the Federal Employees' Compensation Act (FECA), 5 U.S.C. 8101 et seq. Balancing the safety of its employees and the communication needs of our stakeholders, DFEC is proposing the below methods in its written and telephonic communications:

1. All signatures and names currently appearing on outgoing correspondence will be replaced with “Division of Federal Employees' Compensation”.

2. To preserve the Employees' Compensation Appeals Board's (ECAB) ability to identify the adjudicator of certain decisions, DFEC will use a QR code to identify decision authors.

3. A naming convention for the staff will be used to provide every employee with a pseudonym for use in telephone and other oral communications. Employees will utilize the entire first name and last name initial only. If more than one individual has that combination (e.g., two Thomas J.'s in an office) then the middle initial will be added.

4. Outgoing correspondence will not reveal the pseudonym when printed. Instead the pseudonym will be embedded into a QR Code on the letter, allowing any person with a QR scanner on their mobile device to view the pseudonym.

This notice will be published in the Federal Register.

Dated: April 12, 2018.
Julia K. Hearthway,
Director, Office of Workers' Compensation Programs, U.S. Department of Labor.

[FR Doc. 2018-08130 Filed 4-17-18; 8:45 am]

BILLING CODE 4510-CH-P